DEPARTMENT OF THE INTERIOR

National Park Service

Correction--Notice of Inventory Completion for Native American Human Remains and Associated Funerary Objects in the Possession of the Nebraska State Historical Society, Lincoln, NE

AGENCY: National Park Service, Interior.

ACTION: Notice.

Notice is hereby given in accordance with provisions of the Native American Graves Protection and Repatriation Act (NAGPRA), 43 CFR 10.9, of the completion of an inventory of human remains and associated funerary objects in the possession of the Nebraska State Historical Society, Lincoln, NE.

This notice is published as part of the National Park Service’s administrative responsibilities under NAGPRA, 43 CFR 10.2 (c). The determinations within this notice are the sole responsibility of the museum, institution, or Federal agency that has control of these cultural items. The National Park Service is not responsible for the determinations within this notice.

This notice corrects the number of associated funerary objects reported in the Notice of Inventory Completion published September 18, 1997 (Federal Register document 97-24824, pages 49026-49027).

The fifth paragraph of the 1997 notice summarizes the recovery of Native American individuals and associated funerary objects from the Leary site (25RH1) during archeological excavations by Nebraska State Historical Society archeologists in 1936 and 1965. In 2000, one ceramic sherd associated with the burials from the Leary site was discovered at the Nebraska State Historical Society in a box that had been mislabeled. As a result of this discovery, the number of associated funerary objects from the Leary site is corrected by substituting “302 associated funerary objects” for “301 associated funerary objects” in the fifth paragraph of the 1997 notice and by substituting “343 objects” for “342 objects” in the seventh paragraph of the 1997 notice.

Dated: August 6, 2001.
John Robbins,
Assistant Director, Cultural Resources Stewardship and Partnerships.

[FR Doc. 01-25155 Filed 10-5-01; 8:45 am]

BILLING CODE 4310-70-S